COMMITTEE FOR THE IMPLEMENTATION OF TEXTILE AGREEMENTS

Announcement of Import Restraint Limits for Certain Cotton, Wool, Man-Made Fiber, Silk Blend and Other Vegetable Fiber Textiles and Textile Products Produced or Manufactured in Thailand

October 20, 2003.

AGENCY: Committee for the Implementation of Textile Agreements (CITA).

ACTION: Issuing a directive to the Commissioner, Bureau of Customs and Border Protection establishing limits.

EFFECTIVE DATE: January 1, 2004.

FOR FURTHER INFORMATION CONTACT: Ross Arnold, International Trade Specialist, Office of Textiles and Apparel, U.S. Department of Commerce (202) 482-4212. For information on the quota status of these limits, refer to the Quota Status Reports posted on the bulletin boards of each Customs port, call (202) 927-5850, or refer to the Bureau of Customs and Border Protection website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The import restraint limits for textile products, produced or manufactured in Thailand and exported during the period January 1, 2004 through December 31, 2004 are based on limits notified to the Textiles Monitoring Body pursuant to the Uruguay Round Agreement on Textiles and Clothing (ATC).

In the letter published below, the Chairman of CITA directs the Commissioner, Bureau of Customs and Border Protection to establish the 2004 limits. Carryforward applied to the 2003 limits is being deducted from the 2004 limits.

These limits are subject to adjustment pursuant to the provisions of the ATC and administrative arrangements notified to the Textiles Monitoring Body. However, as the ATC and all restrictions thereunder will terminate on January 1, 2005, no adjustment for carryforward (borrowing from next year's limits for use in the current year) will be available.

A description of the textile and apparel categories in terms of HTS numbers is available in the CORRELATION: Textile and Apparel Categories with the Harmonized Tariff Schedule of the United States (see Federal Register notice 68 FR 1599, published on January 13, 2003). Information regarding the 2004 CORRELATION will be published in the Federal Register at a later date.

James C. Leonard III,
Chairman, Committee for the Implementation of Textile Agreements.

Committee for the Implementation of Textile Agreements

October 20, 2003.

Commissioner,

Bureau of Customs and Border Protection, Washington, DC 20229.

Dear Commissioner: Pursuant to section 204 of the Agricultural Act of 1956, as amended (7 U.S.C. 1854); Executive Order 11651 of March 3, 1972, as amended, and the Uruguay Round Agreement on Textiles and Clothing (ATC), you are directed to prohibit, effective on January 1, 2004, entry into the United States for consumption and withdrawal from warehouse for consumption of cotton, wool, man-made fiber, silk blend and other vegetable fiber textiles and textile products in the following categories, produced or manufactured in Thailand and exported during the twelve-month period beginning on January 1, 2004 and extending through December 31, 2004.

Category | Twelve-month restraint limit
Level not in a Group |
239pt. ¹ | 3,201,966 kilograms.
Levels in Group I |
200 | 2,089,800 kilograms.
218 | 30,612,223 square meters.
219 | 11,145,613 square meters.
300 | 8,359,209 kilograms.
301-P ² | 8,359,209 kilograms.
301-O ³ | 1,581,515 kilograms.
313-O ⁴ | 39,009,643 square meters.
314-O ⁵ | 89,164,893 square meters.
315-O ⁶ | 55,728,057 square meters.
317-O/326-O ⁷ | 23,395,178 square meters.
363 | 36,223,238 numbers.
369-S ⁸ | 557,281 kilograms.
604 | 1,303,847 kilograms of which not more than 835,920 kilograms shall be in Category 604-A ⁹.
611-O ¹⁰ | 14,320,376 square meters.
613/614/615 | 84,222,635 square meters of which not more than 49,040,692 square meters shall be in Categories 613/615 and not more than 49,040,692 square meters shall be in Category 614.
617 | 30,413,728 square meters.
619 | 11,861,336 square meters.
620 | 11,861,336 square meters.
625/626/627/628/629 | 23,237,686 square meters of which not more than 19,504,820 square meters shall be in Category 625.
Group II |
237, 331pt.¹¹, 332-348, 351, 352, 359pt. ¹², 433-438, 440, 442-448, 459pt. ¹³, 631pt. ¹⁴, 633-648, 651, 652, 659-H ¹⁵, 659pt. ¹⁶, 845, 846 and 852, as a group | 464,223,863 square meters equivalent.
Sublevels in Group II |
331pt./631pt. | 916,059 dozen pairs.
334/634 | 1,086,698 dozen.
335/635 | 813,336 dozen.
336/636 | 557,281 dozen.
338/339 | 2,641,739 dozen.
340 | 484,950 dozen.
341/641 | 1,184,222 dozen.
342/642 | 1,030,970 dozen.
345 | 500,812 dozen.
347/348 | 1,345,444 dozen.
351/651 | 395,378 dozen.
659-H | 2,228,640 kilograms.
433 | 10,634 dozen.
434 | 13,127 dozen.
435 | 59,650 dozen.
438 | 19,690 dozen.
442 | 22,865 dozen.
638/639 | 3,113,478 dozen.
640 | 919,510 dozen.
645/646 | 557,281 dozen.
647/648 | 1,876,726 dozen.
¹ Category 239pt.: only HTS number 6209.20.5040 (diapers).
² Category 301-P: only HTS numbers 5206.21.0000, 5206.22.0000, 5206.23.0000, 5206.24.0000, 5206.25.0000, 5206.41.0000, 5206.42.0000, 5206.43.0000, 5206.44.0000 and 5206.45.0000.
³ Category 301-O: only HTS numbers 5205.21.0020, 5205.21.0090, 5205.22.0020, 5205.22.0090, 5205.23.0020, 5205.23.0090, 5205.24.0020, 5205.24.0090, 5205.26.0020, 5205.26.0090, 5205.27.0020, 5205.27.0090, 5205.28.0020, 5205.28.0090, 5205.41.0020, 5205.41.0090, 5205.42.0020, 5205.42.0090, 5205.43.0020, 5205.43.0090, 5205.44.0020, 5205.44.0090, 5205.46.0020, 5205.46.0090, 5205.47.0020, 5205.47.0090, 5205.48.0020 and 5205.48.0090.
⁴ Category 313-O: all HTS numbers except 5208.52.3035, 5208.52.4035 and 5209.51.6032.
⁵ Category 314-O: all HTS numbers except 5209.51.6015.
⁶ Category 315-O: all HTS numbers except 5208.52.4055.
⁷ Category 317-O: all HTS numbers except 5208.59.2085; Category 326-O: all HTS numbers except 5208.59.2015, 5209.59.0015 and 5211.59.0015.
⁸ Category 369-S: only HTS number 6307.10.2005.
⁹ Category 604-A: only HTS number 5509.32.0000.
¹⁰ Category 611-O: all HTS numbers except 5516.14.0005, 5516.14.0025 and 5516.14.0085.
¹¹ Categories 331pt.: all HTS numbers except 6116.10.1720, 6116.10.4810, 6116.10.5510, 6116.10.7510, 6116.92.6410, 6116.92.6420, 6116.92.6430, 6116.92.6440, 6116.92.7450, 6116.92.7460, 6116.92.7470, 6116.92.8800, 6116.92.9400 and 6116.99.9510.
¹² Category 359pt.: all HTS numbers except 6115.19.8010, 6117.10.6010, 6117.20.9010, 6203.22.1000, 6204.22.1000, 6212.90.0010, 6214.90.0010, 6406.99.1550, 6505.90.1525, 6505.90.1540, 6505.90.2060 and 6505.90.2545.
¹³ Category 459pt.: all HTS numbers except 6115.19.8020, 6117.10.1000, 6117.10.2010, 6117.20.9020, 6212.90.0020, 6214.20.0000, 6405.20.6030, 6405.20.6060, 6405.20.6090, 6406.99.1505 and 6406.99.1560.
¹⁴ Category 631pt.: all HTS numbers except 6116.10.1730, 6116.10.4820, 6116.10.5520, 6116.10.7520, 6116.93.8800, 6116.93.9400, 6116.99.4800, 6116.99.5400 and 6116.99.9530.
¹⁵ Category 659-H: only HTS numbers 6502.00.9030, 6504.00.9015, 6504.00.9060, 6505.90.5090, 6505.90.6090, 6505.90.7090 and 6505.90.8090.
¹⁶ Category 659pt.: all HTS numbers except 6502.00.9030, 6504.00.9015, 6504.00.9060, 6505.90.5090, 6505.90.6090, 6505.90.7090, 6505.90.8090 (Category 659-H); 6115.11.0010, 6115.12.2000, 6117.10.2030, 6117.20.9030, 6212.90.0030, 6214.30.0000, 6214.40.0000, 6406.99.1510 and 6406.99.1540.

The limits set forth above are subject to adjustment pursuant to the provisions of the ATC and administrative arrangements notified to the Textiles Monitoring Body.

Products in the above categories exported during 2003 shall be charged to the applicable category limits for that year (see directives dated October 8, 2002.) to the extent of any unfilled balances. In the event the limits established for that period have been exhausted by previous entries, such products shall be charged to the limits set forth in this directive.

The conversion factors for Category 659-H and merged Categories 638/639 are 11.5 and 12.96, respectively.

In carrying out the above directions, the Commissioner, Bureau of Customs and Border Protection should construe entry into the United States for consumption to include entry for consumption into the Commonwealth of Puerto Rico.

The Committee for the Implementation of Textile Agreements has determined that these actions fall within the foreign affairs exception of the rulemaking provisions of 5 U.S.C. 553(a)(1).

Sincerely,

James C. Leonard III,

Chairman, Committee for the Implementation of Textile Agreements.

[FR Doc. 03-26841 Filed 10-23-03; 8:45 am]

BILLING CODE 3510-DR-S